DEPARTMENT OF HEALTH AND HUMAN SERVICES

Office for Civil Rights; Workshop on the HIPAA Privacy Rule's De-Identification Standard; Notice of Meeting

AGENCY: Office for Civil Rights, HHS.

ACTION: Notice of meeting.

This notice announces a forthcoming workshop organized by the Office for Civil Rights (OCR). The meeting will be open to the public.

General Purpose of the Meeting: Section 13424 (c) of the Health Information Technology for Clinical and Economic Health (HITECH) Act, part of the American Recovery and Reinvestment Act of 2009 (ARRA),¹ requires HHS to issue guidance on methods for de-identification of protected health information as designated in the Health Insurance Portability and Accountability Act (HIPAA) Privacy Rule. In response to this mandate, OCR is soliciting stakeholder input from experts with practical technical and policy experience to inform the creation of guidance materials. OCR is collecting views regarding de-identification approaches, best practices for implementation and management of the current de-identification standard and potential changes to address policy concerns.

¹ Public Law 111-5.

To facilitate timely collection of information, OCR is organizing an in-person two (2)-day workshop that will consist of multiple panels. Each panel will address a specific topic related to the Privacy Rule's de-identification methodologies and policies. The workshop will be open to the public and each panel presentation will be followed by a question-answer period. At the present time, this is the only workshop planned.

Date and Time: The meeting will be held on March 8, 2010, from 8 a.m. to 5:15 p.m./Eastern Time and March 9, 2010 from 8:30 a.m. to 11:30 a.m.

Location: Washington Marriott at Metro Center, 775 12th Street NW., Washington, District of Columbia 20005. The hotel telephone number is 202-737-2200.

Contact Person: Andra Wicks, Office for Civil Rights, HHS, 200 Independence Ave, SW., Washington, DC 20201, 202-205-2292, Fax: 202-205-4786, e-mail: andra.wicks@hhs.gov. Please call the contact person for information on this meeting, view workshop updates on our Web site at http://www.hhs.gov/ocr/privacy, or register for the workshop at https://www.fedmeetings.net/common/registration.cfm?mid=2852.

Agenda: The two (2)-day workshop will explore the following topics related to the de-identification of protected health information standard ²:

² 45 CFR 164.514(b).

—Methodological Issues Associated with HIPAA Privacy Rule De-Identification.

—Statistical Disclosure Control and HIPAA Privacy Rule Protections.

—Anonymization and the HIPAA Privacy Rule.

—Policy Interpretations of HIPAA Privacy Rule De-Identification Requirements.

—De-Identification and Legal Contracts.

Each ninety (90) minute panel will include presentations by industry experts followed by a discussion period. The discussion will include questions posed by workshop participants and the general public attending the meeting in-person and via Web cast.

OCR intends to make background material available to the public no later than two (2) business days prior to the meeting. If OCR is unable to post the background material on its Web site prior to the meeting, it will be made publicly available at the location of the workshop, and the background material will be posted on OCR's Web site after the meeting, at http://www.hhs.gov/ocr/privacy.

Procedure: Interested persons may present data, information, or views, orally or in writing, on issues pending before the workshop. Written submissions may be made to OCRPrivacy@hhs.gov, with the workshop title “Workshop on the HIPAA Privacy Rule's De-Identification Standard” in the subject line on or before Friday, March 5, 2010.

Oral comments from the public will be permitted after each panel. Time allotted for each presentation is limited to three minutes. If the number of speakers requesting to comment is greater than can be reasonably accommodated during the scheduled open public hearing session, OCR will take written comments after the meeting until Friday, March 12, 2010.

After the workshop, OCR will synthesize the input from workshop panelists and general comments to incorporate into guidance. The guidance will be posted on the OCR Web site for public comment. OCR may provide revised guidance incorporating the public comment.

OCR welcomes the attendance of the public at this workshop. Seating is limited at the location, and OCR will make every effort to accommodate persons with physical disabilities or special needs. If you require special accommodations due to a disability, please contact Andra Wicks at least seven (7) days in advance of the meeting.

Dated: February 17, 2010.
Zinethia L. Clemmons,
Health Information Privacy Specialist, Office for Civil Rights, Health Information Privacy Division.

[FR Doc. 2010-3663 Filed 2-23-10; 8:45 am]

BILLING CODE 4153-01-P